DEPARTMENT OF ENERGY

Federal Energy Regulatory Commission

Notice of Applications for Amendment of License and Soliciting Comments, Motions to Intervene, and Protests

March 15, 2001.

Take notice that the following applications have been filed with the Commission and are available for public inspection:

a. Application Type: Non-Project Use of Project Lands and Waters.

b. Project No: 2210-052, -053, -054, -055, -056, -057, -058, -059, -060, -061, and -064.

c. Date Filed: January 23, 2001 and February 21, 2001 (- 64).

d. Applicant: American Electric Power (AEP).

e. Name of Project: Smith Mountain.

f. Location: The project is located on the Roanoke River, in Bedford, Pittsylvania, Franklin, and Roanoke Counties, Virginia.

g. Filed Pursuant to: Federal Power Act, 16 USC 791(a) 825(r) and §§ 799 and 801.

h. Applicant Contact: Frank M. Simms, Fossil and Hydro Operations, American Electric Power, 1 Riverside Plaza, Columbus, Ohio 43215, (614) 223-2918.

i. FERC Contact: Any questions on this notice should be addressed to Mr. Brian Romanek at (202) 219-3076.

j. Deadline for filing comments and or motions: April 20, 2001.

All documents (original and eight copies) should be filed with: David P. Boergers, Secretary, Federal Energy Regulatory Commission, 888 First Street, N.W., Washington DC 20426. Comments, protests and interventions may be filed electronically via the Internet in lieu of paper. See, 18 CFR 385.2001(a)(1)(iii) and the instructions on the Commission's web site at http://www.ferc.fed.us/efi/doorbell.htm

Please include the specific project number (P-2210-052, -053, -054, -055, -056, -057, -058, -059, -060, -061, or -064) on any comments or motions filed. Use only the project number for which you are making reference.

k. Description of Request: The following applications are filed by American Electric Power for the purpose of obtaining Commission authorization to allow the indicated uses of project lands and waters at the Smith Mountain Project. The described facilities are in various stages of development from fully to partially completed.

P-2210-052—Bass Cove New Properties, located adjacent to the Bass Cove subdivision, located east of Tom Branch Cove off Craddock Creek in Bedford County. As-built, the facility includes eight new covered boat slips added to an existing stationary dock containing 16 covered boat slips.

P-2210-053—Bernard's Landing Comprehensive Property Owners Association facilities, located at the terminus of Route 616 peninsula accessing both the Roanoke and Blackwater Rivers in Franklin County. As-built, the facilities include three new adjacent boathouses with a total of twenty boat slips.

P-2210-054—Blue Ridge Recreation Inc. facilities, located at Bay Roc Marina on the south side of the Roanoke River at its intersection with Route 634 in Franklin County. As-built, the facilities include nine new commercial boat slips and a walkway making a total of 80 boat slips at the site.

P-2210-055—Highland Pointe Condominium Unit facilities, located on a small cove west of Bull Run tributary in Franklin County. As-built, the facilities include a 206 square foot stationary dock.

P-2210-056—J.W. Development, Inc. facilities, located near the end of Craddock Creek (just north of the C-6 Channel marker) in Bedford County. As-built, the facilities include two new boathouses with 24 boat slips each.

P-2210-057—Marina Bay Condo Unit Owners (Edie Greene) facilities, located near the end of little Bull Run in Franklin County. As-built, the facilities include a new stationary dock, floating dock, and a gazebo.

P-2210-058—Marina Bay Condo Unit Owners (Willard Construction Company) facilities, located near the end of little Bull Run in Franklin County. As-built, the facilities include two (2) new boat slips and an existing boathouse with 36 boat slips.

P-2210-059—Ryals-Jordan Inc. facilities, located north of Walton Creek at its confluence with Merriman's Creek (north of the R-21 channel maker) in Bedford County. As-built, the facilities include a new addition to an existing commercial dock that serves the Virginia Dare dinner boat.

P-2210-060—Webster Marine Center, Inc. facilities, located on the Roanoke River northeast of its intersection with Route 122 (Hales Ford Bridge) in Bedford County. As-built, the facilities include three new boat slips added to an existing complex of 41 boat slips.

P-2210-061—Westlake Properties facilities, located on the south side of Indian Creek, east of the Roanoke River in Franklin County. As-built, the facilities include seven sets of docks with six boat slips and two floating docks, one set of four boat slips, and two additional floating docks, one with 46 boat slips and the other with 16 slips.

P-2210-064—Mariner's Landing at the 6th Fairway (J.W. Holdings) located on a small cove off of Craddock Creek in Bedford County. As-built, the facilities include a covered stationary boathouse with 8 boat slips.

l. Locations of the Application: A copy of the application is available for inspection and reproduction at the Commission's Public Reference Room, located at 888 First Street, NE, Room 2A, Washington, D.C. 20426, or by calling 202) 208-1371. This filing may be viewed on http://www.ferc.fed.us/online/rims.htm (call (202) 208-2222 for assistance). A copy is also available for inspection and reproduction at the address in item (h) above.

m. Individuals desiring to be included on the Commission's mailing list should so indicate by writing to the Secretary of the Commission.

n. Comments, Protests, or Motions to Intervene—Anyone may submit comments, a protest, or a motion to intervene in accordance with the requirements of Rules of Practice and Procedure, 18 CFS 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, or “MOTION TO INTERVENE”, as applicable, and the Project Number of the particular application to which the filing refers. A copy of any motion to intervene must also be served upon each representative of the Applicant specified in the particular application.

p. Agency comments—Federal, state, and local agencies are invited to file comments on the described application. A copy of the application may be obtained by agencies directly from the Applicant. If an agency does not file comments within the time specified for filing comments, it will be presumed to have no comments. One copy of an agency's comments must also be sent to the Applicant's representatives.

David P. Boergers,
Secretary.

[FR Doc. 01-6957 Filed 3-20-01; 8:45 am]

BILLING CODE 6717-01-M